ENVIRONMENTAL PROTECTION AGENCY

[EPA-HQ-OECA-2014-0096; FRL-9923-49-OEI]

Information Collection Request Submitted to OMB for Review and Approval; Comment Request; NESHAP for Iron and Steel Foundry Area Sources (Renewal)

AGENCY: Environmental Protection Agency (EPA).

ACTION: Notice.

SUMMARY: The Environmental Protection Agency has submitted an information collection request (ICR), “NESHAP for Iron and Steel Foundry Area Sources (40 CFR part 63, subpart ZZZZZ) (Renewal)” (EPA ICR No. 2267.04, OMB Control No. 2060-0605), to the Office of Management and Budget (OMB) for review and approval in accordance with the Paperwork Reduction Act (44 U.S.C. 3501 et seq). This is a proposed extension of the ICR, which is currently approved through February 28, 2015. Public comments were previously requested via the Federal Register (79 FR 30117) on May 27, 2014, during a 60-day comment period. This notice allows for an additional 30 days for public comments. A fuller description of the ICR is given below, including its estimated burden and cost to the public. An Agency may not conduct or sponsor, and a person is not required to respond to, a collection of information unless it displays a currently valid OMB control number.

DATES: Additional comments may be submitted on or before March 27, 2015.

ADDRESSES: Submit your comments, referencing Docket ID Number EPA-HQ-OECA-2014-0096, to: (1) EPA online using www.regulations.gov (our preferred method), by email to docket.oeca@epa.gov, or by mail to: EPA Docket Center, Environmental Protection Agency, Mail Code 28221T, 1200 Pennsylvania Ave., NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave., NW., Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, WJC West, Room 3334, 1301 Constitution Ave., NW., Washington, DC. The telephone number for the Docket Center is 202-566-1744. For additional information about EPA's public docket, visit: http://www.epa.gov/dockets.

Abstract: The NESHAP for Iron and Steel Foundry Area Sources applies to either owners or operators of any existing or new iron or steel foundry that is an area source of hazardous air pollutant (HAP) emissions. Research and development facilities are not covered by the rule. Foundries covered by the rule would not be required to obtain a Title V operating permit. Small iron and steel foundries are required to comply with pollution prevention management practices for scrap materials, the removal of mercury switches, and binder formulations. Large iron and steel foundries are required to comply with the same pollution prevention management practices as small foundries in addition to emissions limitations for melting furnaces and foundry operations. Owners or operators must submit an initial notification report that the facility is subject to the rule, notification of performance test, notification of compliance status (including results of performance tests and other initial compliance demonstrations), and the semiannual compliance report.

Form Numbers: None.

Respondents/affected entities: Iron and steel foundries.

Respondent's obligation to respond: Mandatory (40 CFR part 63, subpart ZZZZZ).

Estimated number of respondents: 427 (total).

Frequency of response: Initially, occasionally and semiannually.

Total estimated burden: 7,893 hours (per year). Burden is defined at 5 CFR 1320.3(b).

Total estimated cost: $772,735 (per year), which includes no annualized capital or operation & maintenance costs.

Changes in the Estimates: The increase in burden from the most-recently approved ICR is due to several changes. This ICR adds burden requirements to repeat certain performance tests (PM tests for large foundries and opacity tests for all foundries), and corrects the average number of respondents per year.

Courtney Kerwin,
Acting Director, Collection Strategies Division.

[FR Doc. 2015-03902 Filed 2-24-15; 8:45 am]

BILLING CODE 6560-50-P